DEPARTMENT OF THE INTERIOR

Fish and Wildlife Service

[FWS-R1-ES-2020-N003; FXES11140100000-212-FF01E00000]

Habitat Conservation Plan for Lorraine Tveten Single-Family Residence, Thurston County, Washington

AGENCY: Fish and Wildlife Service, Interior.

ACTION: Notice of availability; request for comments.

SUMMARY: We, the U.S. Fish and Wildlife Service, received an application from Ms. Lorraine Tveten for an incidental take permit (ITP) pursuant to the Endangered Species Act of 1973, as amended. The ITP would authorize “take” of the Yelm pocket gopher, incidental to otherwise lawful activities during construction of a single-family home and agricultural buildings in Thurston County, Washington. The application includes a habitat conservation plan (HCP) with measures to minimize and mitigate the impacts of the taking on the covered species. We have also prepared a draft environmental action statement for our preliminary determination that the HCP and permit decision may be eligible for categorical exclusion under the National Environmental Policy Act. We provide this notice to open a public comment period and invite comments from all interested parties regarding the documents.

DATES: To ensure consideration, please submit written comments by May 27, 2021.

ADDRESSES: To request further information or submit written comments, please use one of the following methods:

• Internet: You may view or download copies of the HCP, draft environmental action statement, and additional information at http://www.fws.gov/wafwo/.

• Email: wfwocomments@fws.gov. Include “Lorraine Tveten HCP” in the subject line of the message.

• U.S. Mail: Public Comments Processing, Attn: FWS-R1-ES-2020-N003; U.S. Fish and Wildlife Service; Washington Fish and Wildlife Office; 510 Desmond Drive SE, Suite 102; Lacey, WA 98503.

FOR FURTHER INFORMATION CONTACT: Tim Romanski, Conservation Planning and Hydropower Branch Manager, Washington Fish and Wildlife Office, U.S. Fish and Wildlife Service (see ADDRESSES), telephone: 360-753-5823. If you use a telecommunications device for the deaf, please call the Federal Relay Service at 800-877-8339.

SUPPLEMENTARY INFORMATION: We, the U.S. Fish and Wildlife Service (Service), received an application from Lorraine Tveten (applicant) for an incidental take permit (ITP) pursuant to section 10(a)(1)(B) of the Endangered Species Act of 1973, as amended (ESA; 16 U.S.C. 1531 et seq.). The applicant requests an ITP for a period of 3 years that would authorize “take” of the threatened Yelm pocket gopher (Thomomys mazama yelmensis) incidental to construction of a single-family home on land the applicant owns in Thurston County, Washington. The application includes a proposed habitat conservation plan (HCP), which describes actions the applicant would take to minimize and mitigate the impacts of the taking on the covered species. We have also prepared a draft environmental action statement (EAS) and low-effect screening form for our preliminary determination that the HCP and permit decision may be eligible for a categorical exclusion under the National Environmental Policy Act of 1969 (NEPA; 42 U.S.C. 4321 et seq.).

Background

Section 9 of the ESA and its implementing regulations prohibit “take” of fish and wildlife species listed as endangered (16 U.S.C. 1538(a)(1)). Section 4 of the ESA allows FWS to issue regulations which prohibit the take of any fish and wildlife species listed as threatened, as well (16 U.S.C. 1533(d)). The take prohibition has been extended to the Yelm pocket gopher, although certain activities have been excluded (50 CFR 17.40). Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to carry out intentional or negligent actions that create the likelihood of injury to listed species to such an extent as to significantly disrupt normal behavioral patterns, which include, but are not limited to, breeding, feeding, or sheltering (50 CFR 17.3).

Section 10(a)(1)(B) of the ESA contains provisions that authorize the Service to issue permits to non-Federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found at 50 CFR 17.22 and 17.32.

Proposed Action

Covered activities include construction of a single-family home and an agricultural building. The area covered under the HCP consists of a 0.33-acre (ac) project development site and a 0.75-ac conservation site on land owned by the applicant. Take of the Yelm pocket gopher would occur within the 0.33-ac development site. The impacts of the taking on the Yelm pocket gopher would be offset by permanently managing 0.75 ac of occupied habitat for the covered species on the applicant's land, until and unless the take impacts are offset by purchasing equivalent credits from a Service-approved conservation bank for the Yelm pocket gopher.

The Service proposes to issue the requested 3-year ITP based on the applicant's commitment to implement the HCP, if permit issuance criteria are met.

Public Comments

You may submit your comments and materials by one of the methods listed in ADDRESSES. We specifically request information, views, and suggestions from interested parties regarding our proposed Federal action, including adequacy of the HCP pursuant to the requirements for permits at 50 CFR parts 13 and 17, and adequacy of the EAS pursuant to the requirements of NEPA.

Public Availability of Comments

All written comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive will be available for public inspection upon request of the Washington Fish and Wildlife Office (see ADDRESSES).

Next Steps

After public review, we will evaluate the permit application, associated documents, and any comments received to determine whether the permit application meets the requirements of section 10(a)(2)(B) of the ESA. We will also evaluate whether issuance of the requested permit would comply with section 7 of the ESA by conducting an intra-Service consultation under section 7(a)(2) of the ESA on the proposed ITP action. If we determine that the project qualifies for a categorical exclusion under NEPA because neither the permit nor the permit issuance is anticipated to significantly affect the quality of the human environment, we will finalize the EAS. The final NEPA and permit determinations will not be completed until after the end of the 30-day comment period, and will fully consider all comments received during the comment period. If we determine that all requirements are met, we will issue an ITP.

Authority

We provide this notice in accordance with the requirements of section 10(c) of the ESA (16 U.S.C. 1531 et seq.) and its implementing regulations (50 CFR 17.32), and NEPA (42 U.S.C. 4321 et seq.) and its implementing regulations (40 CFR 1506.6 and 43 CFR 46.305).

Robyn Thorson,
Regional Director, Interior Regions 9 and 12, U.S. Fish and Wildlife Service.

[FR Doc. 2021-08717 Filed 4-26-21; 8:45 am]

BILLING CODE 4333-15-P